DEPARTMENT OF AGRICULTURE

Agricultural Research Service

Notice of Intent To Grant Exclusive License

AGENCY: Agricultural Research Service, USDA.

ACTION: Notice of intent.

SUMMARY: Notice is hereby given that the Department of Agriculture, Agricultural Research Service, intends to grant to INDOPCO, d/b/a National Starch & Chemical Company, of Bridgewater, New Jersey, an exclusive license for all uses in cosmetics and cosmetic ingredients to U.S. Patent No. 5,676,994, “Non-Separable Starch-Oil Compositions,” issued on October 4, 1997, and to U.S. Patent No. 5,882,713, “Non-Separable Compositions of Starch and Water-Immiscible Organic Materials,” issued on March 16, 1999. U.S. Patent No. 5,676,994 is a continuation of U.S. Patent Application Serial No. 08/233,173, “Non-Separable Starch-Oil Compositions,” and U.S. Patent No. 5,882,713 is a continuation-in-part of U.S. Patent Application Serial No. 08/233,173. Notice of Availability for U.S. Patent Application Serial No. 08/233,173 was published in the Federal Register on October 24, 1994.

DATES: Comments must be received on or before August 27, 2001.

ADDRESSES: Send comments to: USDA, ARS, Office of Technology Transfer, 5601 Sunnyside Avenue, Rm. 4-1158, Beltsville, Maryland 20705-5131.

FOR FURTHER INFORMATION CONTACT: June Blalock of the Office of Technology Transfer at the Beltsville address given above; telephone: 301-504-5257.

SUPPLEMENTARY INFORMATION: The Federal Government's patent rights in this invention are assigned to the United States of America, as represented by the Secretary of Agriculture. It is in the public interest to so license this invention as National Starch & Chemical Company has submitted a complete and sufficient application for a license. The prospective exclusive license will be royalty-bearing and will comply with the terms and conditions of 35 U.S.C. 209 and 37 CFR 404.7. The prospective exclusive license may be granted unless, within sixty (60) days from the date of this published Notice, Agricultural Research Service receives written evidence and argument which establishes that the grant of the license would not be consistent with the requirements of 35 U.S.C. 209 and 37 CFR 404.7.

Michael D. Ruff,
Assistant Administrator.

[FR Doc. 01-16134 Filed 6-26-01; 8:45 am]

BILLING CODE 3410-03-P